DEPARTMENT OF DEFENSE

Office of the Secretary

[Docket ID: DoD-2023-OS-0119]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by June 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Leader Assessment of the DoD's Toolkit for Managing Suicide-Related Events; OMB Control Number: 0720-SPTK.

Type of Request: New.

Number of Respondents: 200.

Responses per Respondent: 1.

Annual Responses: 200.

Average Burden per Response: 120 minutes.

Annual Burden Hours: 400.

Needs and Uses: The Defense Suicide Prevention Office (DSPO) has developed an online postvention toolkit intended to equip DoD personnel with a better understanding of how to support survivors in a way that is sensitive to the unique issues associated with suicide-related events. Sections of the toolkit were specifically designed to facilitate leader decision-making, support, and management of suicide-related events. While this toolkit is a critical step in supporting postvention in the military, it has yet to be formally evaluated. In accordance with Department of Defense Instruction (DoDI) 6490.16, DSPO and Military Departments must “ensure that suicide prevention activities are developed from a relevant evidence-base and have an evaluation capability” prior to implementation. Suicide prevention activities that were in place prior to release of the DoDI 6490.16 must be reviewed for improvement and gather program evaluation data. In addition, Government Accountability Office (GAO) Report GAO-22-105108 titled “DoD Should Enhance Oversight, Staffing, Guidance, and Training Affecting Certain Remote Installations,” recommended that the Under Secretary of Defense for Personnel and Readiness, in collaboration with DSPO, establish guidance to address commanders' response to suicide attempts, including the extent of any responsibilities related to reintegration of Service members into the workplace following a suicide attempt. The proposed project will allow DSPO to meet the DoDI 6490.16 requirement for development of an evaluation plan for the DSPO Postvention Toolkit, while simultaneously meeting GAO's requirements to explore and develop resources to meet the needs of military leaders' in supporting Service member reintegration following a suicide attempt. Feedback from leaders is needed to understand the perceptions of the toolkit to guide improvements in content, approach, and dissemination.

Affected Public: Individuals or Households.

Frequency: Once.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: May 15, 2024.
Aaron T. Siegel,
Alternate OSD Federal Register Liaison Officer, Department of Defense.

[FR Doc. 2024-11039 Filed 5-17-24; 8:45 am]

BILLING CODE 6001-FR-P